DEPARTMENT OF TRANSPORTATION

Federal Highway Administration

[Docket No. FHWA-2014-0039]

ET-Plus Guardrail End Terminal

AGENCY: Federal Highway Administration (FHWA), Department of Transportation (DOT).

ACTION: Notice; Request for Information.

SUMMARY: The purpose of this notice is to request data and information regarding the ET-Plus guardrail end terminal (ET-Plus) manufactured by Trinity Industries, Inc. (Trinity). In 2005, the FHWA determined that ET-Plus guardrail end terminal met the relevant crash test criteria and therefore was eligible for Federal-aid highway funding. This fall, a jury issued a verdict that Trinity made a false or fraudulent claim to FHWA when it sought the eligibility determination for the ET-Plus. Additionally, a number of parties have raised concerns about the in-service performance of the ET-Plus and the potential variability in the dimensions of installed units of the ET-Plus. As a result, FHWA is undertaking a number of efforts to assess these issues. The FHWA is seeking technical information and data to assist in this work.

DATES: Data and information must be submitted to FHWA on or before February 9, 2015.

ADDRESSES: Mail or hand deliver data and information to the U.S. Department of Transportation, Dockets Management Facility, Room W12-140, 1200 New Jersey Avenue SE., Washington, DC 20590, or fax comments to (202) 493-2251. Alternatively, data or information may be submitted to the Federal eRulemaking portal at http://www.regulations.gov. Please note that the Federal eRulemaking portal is unable to receive videos or any document larger than 10MB. If you would like to submit a video or a document that is 10MB or larger, please directly contact one of the individuals identified in this notice. All data and information must include the docket number that appears in the heading of this document. All data and information received will be available for examination and copying at the above address from 9 a.m. to 5 p.m., e.t., Monday through Friday, except Federal holidays. Those desiring notification of receipt of data and information must include a self-addressed, stamped postcard or you may print the acknowledgment page that appears after submitting comments electronically. Anyone is able to search the electronic form of all information in any one of our dockets by the name of the individual submitting the information (or signing the information, if submitted on behalf of an association, business, or labor union). The DOT solicits comments from the public to better inform its activities. The DOT posts these comments, without edit, including any personal information the commenter provides, to www.regulations.gov, as described in the system of records notice (DOT/ALL-14 FDMS), which can be reviewed at www.dot.gov/privacy.

FOR FURTHER INFORMATION CONTACT: Mike Griffith, Office of Safety, 202-366-9469, mike.griffith@dot.gov, Federal Highway Administration, 1200 New Jersey Avenue SE., Washington, DC 20590. For legal questions, please contact Jennifer Mayo, Assistant Chief Counsel, FHWA Office of the Chief Counsel, (202) 366-1523, or via email at jennifer.mayo@dot.gov, Federal Highway Administration, 1200 New Jersey Avenue SE., Washington, DC 20590.

SUPPLEMENTARY INFORMATION:

Electronic Access and Filing

You may submit or retrieve information online through the Federal eRulemaking portal at: www.regulations.gov. The Web site is available 24 hours each day, 365 days each year. Electronic submission and retrieval help and guidelines are available under the help section of the Web site.

An electronic copy of this document may also be downloaded from Office of the Federal Register's Web site at: http://www.archives.gov/federal_register and the Government Printing Office's Web site at: http://www.gpoaccess.gov.

Background

As a national leader in highway safety, FHWA is responsible for ensuring that America's roads continue to remain among the safest in the world. This commitment to safety is the principle that guides all our efforts, and FHWA is acting on multiple fronts to ensure the safety of roadside safety hardware and, specifically, the ET-Plus guardrail end terminal.

The FHWA's strategy includes a data-driven determination regarding the performance of the ET-Plus and reviewing our existing processes for assessing the safety of roadside safety hardware to determine whether we need to change them.

Most immediately, we need to reach a conclusion about the performance of the ET-Plus based on the data we are collecting and reviewing. Our first step is to review all previous crash tests of the device and to obtain new testing to ensure that the ET-Plus meets the National Cooperative Highway Research Program test criteria (NCHRP 350) test criteria applicable to this device. These tests, along with field measurements of installed devices, will help confirm that the at least 200,000 ET-Plus devices on the system met the same criteria as all other guardrail end treatments. We expect to receive, review, and make the crash test results public in early 2015, after the completion of the testing and our review of the data. If the ET-Plus end terminal fails the crash tests or FHWA otherwise determines that the ET-Plus poses safety concerns to the traveling public, FHWA will revoke the eligibility letter for the device.

More broadly, FHWA is reviewing multiple sources of information we have collected to assess whether the ET-Plus has vulnerabilities outside of the NCHRP 350 testing now being conducted. The review of this information will help FHWA determine whether to require additional testing of the ET-Plus or other devices in the same class.

Another key component of FHWA's ongoing efforts is to evaluate the in-service performance of the ET-Plus. We are collecting a broad array of data to support this assessment. The FHWA asked all State DOTs to send us information regarding the performance of the ET-Plus on their roadways. Additionally, we have obtained information about the ET-Plus that was presented in the recent trial in Texas, as well as data received from parties involved in the trial. We have analyzed our own safety data and data from our Federal safety partners, including the Motor Vehicle Crash Causation Study, the Highway Safety Information System, and the Fatality Analysis Reporting System. We will objectively and thoroughly assess all of this information to reach a data-driven conclusion about the real-world performance of the ET-Plus.

Purpose of This Notice

As part of our information gathering about crashes involving the ET-Plus guardrail end terminal, FHWA is seeking data and information regarding the in-service performance of the ET-Plus. In particular, we are seeking two sets of data and information. First, we are asking for any data and information concerning vehicle crashes involving the ET-Plus. Second, we are asking for any data and information about the dimensions of the ET-Plus as installed along roadways.

1. ET-Plus Crash Data and Information. The FHWA is seeking data and information concerning vehicle crashes involving the ET-Plus. We are seeking crash reports, photographs of damaged ET-Plus devices at crash scenes, photographs of vehicles at crash scenes that impacted ET-Plus devices, and crash reconstruction reports with corresponding data. The type of data and information we are requesting includes, but is not limited to the following:

• Crash narratives;

• Crash diagrams;

• Severity of the crash as noted in the crash report (Killed, A injury, B injury, etc.);

• The approximate mass, speed, and angle of impact of the vehicle;

• The orientation of the vehicle as it impacted the terminal (head-on, side-impact, front corner, etc.);

• The location of the crash (State, route, county, mile marker);

• The type of road on which the crash occurred;

• The weather at the time of the crash;

• The condition of the shoulder and/or roadside at the time of the crash;

• The installation and maintenance history of the terminal; and

• The condition of the terminal prior to the impact.

2. ET-Plus Dimensions as Installed. The FHWA is seeking data concerning the dimensions of the ET-Plus devices installed on highways. In particular, we are interested in a few key dimensions: Channel width, exit gap, guide chute exit height, and outside guide channel length. We also are interested in any other dimensions that could be useful in determining the in-service performance of the ET-Plus. We are asking for existing data and information that the public may have and are not asking the public to undertake any activities that may risk the safety of themselves or others.

The FHWA plans to objectively and thoroughly assess all data and information provide to us. We ask that any data or information be provided on or before February 9, 2015.

Paperwork Reduction Act

Under the Paperwork Reduction Act of 1995 (PRA) (44 U.S.C. 3501, et seq.), Federal agencies must obtain approval from the Office of Management and Budget (OMB) for each collection of information they conduct, sponsor, or require through regulations. This action contains a collection of information requirement under the PRA. This information collection requirement has been previously submitted to OMB for approval, pursuant to the provisions of the PRA. The requirement has been approved through May 31, 2017; OMB Control No. 2125-0025.

Authority: 23 U.S.C. 148 and 315.

Issued on: December 18, 2014.
Gregory G. Nadeau,
Acting Administrator, Federal Highway Administration.

[FR Doc. 2014-30081 Filed 12-23-14; 8:45 am]

BILLING CODE 4910-22-P